MORRIS K. UDALL SCHOLARSHIP AND EXCELLENCE IN NATIONAL ENVIRONMENT POLICY FOUNDATION

Notice of Meeting

The Board of Trustees of the Morris K. Udall Scholarship & Excellence in National Environmental Policy Foundation will hold a meeting beginning at 8 a.m. on Thursday, November 2, 2000 at the offices of the U.S. Institute for Environmental Conflict Resolution, 110 South Church, Ste, 3350, Tucson, AZ 85701.

The matters to be considered will include (1) A report on the U.S. Institute of Environmental Conflict Resolution, and (2) A report from the Udall Center for Studies and Public Policy; (3) Program Reports, and (4) Approval of 2001 budget. The meeting is open to the public.

CONTACT PERSON FOR MORE INFORMATION: Christopher L. Helms, 110 South Church, Ste, 3350, Tucson, Arizona 85701. Telephone: (520) 670-5608.

Dated this 10th day of October, 2000.
Christopher L. Helms,
Executive Director, Morris K. Udall Foundation Scholarship and Excellence in National Environmental Policy.

[FR Doc. 00-26713 Filed 10-17-00; 8:45 am]

BILLING CODE 6320-FN-M